DEPARTMENT OF THE INTERIOR

Bureau of Indian Affairs

Tribal Energy Policy Advisory Committee

AGENCY: Bureau of Indian Affairs, Interior.

ACTION: Nomination of Tribal Representatives to a Department of the Interior Advisory Committee on Tribal Energy Policy.

SUMMARY: The Department of the Interior's Assistant Secretary—Indian Affairs (AS-IA) is forming a Tribal Energy Policy Advisory Committee (Committee) of tribal officials and Federal representatives to provide advice on implementing regulations promulgated under the Indian Tribal Energy Development and Self-Determination Act of 2005 (Act) and other Indian energy resource development matters. The AS-IA is requesting nominations to the Committee for tribal representatives of federally recognized Indian tribes from all of the Bureau of Indian Affairs regions except Alaska (the Act does not include Alaska).

DATES: Submit nominations by June 27, 2008. We will not consider nominations received after this date.

ADDRESSES: You must submit the nominations for the Tribal Energy Policy Advisory Committee by mail or hand-carry to the Department of the Interior, Office of Indian Energy and Economic Development, Attention: Nominations—Tribal Energy Policy Advisory Committee, Room 20, South Interior Building, 1951 Constitution Avenue, NW., Washington, DC 20245.

FOR FURTHER INFORMATION CONTACT: Darryl Francois, Office of Indian Energy and Economic Development, Division of Indian Energy Policy, Room 20, South Interior Building, 1951 Constitution Avenue, NW., Washington, DC 20245, Telephone (202) 219-0740 or Fax (202) 208-4564.

SUPPLEMENTARY INFORMATION: On March 10, 2008, the Secretary published final regulations at 25 CFR part 224, which provide that Indian tribes may enter into Tribal Energy Resource Agreements (TERAs) with the Secretary. Under approved TERAs, at their discretion, tribes may enter into leases, business agreements, and rights-of-way for energy resource development without Secretarial review or approval. The purpose of the Committee is to advise the Secretary and the Assistant Secretary—Indian Affairs on Indian energy policy matters.

The Committee will meet twice yearly. All Committee representatives are expected to attend each meeting. If selected for Committee membership, tribal representatives must agree that they are able and will inform other interested tribes in their regions of advisory committee activities and bring to the attention of the advisory committee energy resource development concerns of other tribes in their regions.

Tribal representative nominees must be elected officials of tribal governments or designated employees of elected tribal officials with authority to act on their behalf. Nominees must have demonstrable background and experience in energy resource development including, but not limited to, technical, administrative, managerial, or financial, aspects of energy resource development. Energy resource development includes resources identified in 25 CFR 224.103.

Nominations must be made by tribal leaders on official letterhead. Nominations for each tribal representative must state the nominee's official status with the tribal government (elected official or designated employee with authority to act on an elected official's behalf). Nominations must include relevant background and experience in energy resource development and must include a current resume. Nominations must be accompanied by a tribal resolution that recommends that the nominee be appointed to the Tribal Energy Policy Advisory Committee.

The AS-IA will name up to 11 tribal representatives who will be notified in writing of their selection. Tribal representatives' travel expenses to the Committee meetings will be paid in accordance with current General Services Administration regulations.

Dated: May 2, 2008.
Carl J. Artman,
Assistant Secretary—Indian Affairs.

[FR Doc. E8-10626 Filed 5-12-08; 8:45 am]

BILLING CODE 4310-04-P